DEPARTMENT OF AGRICULTURE

Agricultural Research Service

Notice of Intent To Request an Extension of a Currently Approved Information Collection

AGENCY: Agricultural Research Service, USDA.

ACTION: Notice and request for comments.

SUMMARY: In accordance with the Paperwork Reduction Act of 1995, this notice announces the Agricultural Research Service's (ARS) intention to request an extension of a currently approved information collection, Form AD-761, USDA Patent License Application for Government Invention that expires September 30, 2007.

DATES: Comments must be received within sixty-five (65) days of the date of publication of this notice in the Federal Register.

ADDRESSES: Comments may be sent to June Blalock, USDA, ARS, Office of Technology Transfer, 5601 Sunnyside Avenue, Room 4-1174, Beltsville, Maryland 20705-5131; Telephone Number 301-504-5989.

FOR FURTHER INFORMATION CONTACT: June Blalock, USDA, ARS, Office of Technology Transfer, 301-504-5989.

SUPPLEMENTARY INFORMATION: Title: USDA Patent License Application for Government Invention.

OMB Number: 0518-0003.

Expiration Date of Approval: September 30, 2007.

Type of Request: To extend a currently approved information collection.

Abstract: The USDA patent licensing program grants patent licenses to qualified businesses and individuals who wish to commercialize inventions arising from federally supported research. The objective of the program is to use the patent system to promote the utilization of inventions arising from such research. The licensing of federally owned inventions must be done in accordance with the terms, conditions and procedures prescribed under 37 CFR part 404. Application for a license must be addressed to the Federal agency having custody of the invention. Licenses may be granted only if the license applicant has supplied the Federal agency with a satisfactory plan for the development and marketing of the invention and with information about the applicant's capability to fulfill the plan. 37 CFR 404.8 sets forth the information which must be provided by a license applicant. For the convenience of the applicant, USDA has itemized the information needed on Form AD-761, and instructions for completing the form are provided to the applicant. The information submitted is used to determine whether the applicant has both a complete and sufficient plan for developing and marketing the invention and the necessary manufacturing, marketing, technical and financial resources to carry out the submitted plan.

Estimate of Burden: Public reporting burden for this collection of information is estimated to average 3 hours per response.

Description of Respondents: Businesses or other for profit individuals.

Estimated Number of Respondents: 75.

Frequency of Responses: One time per invention.

Estimated Total Annual Burden on Respondents: 225 hours.

This data will be collected under the authority of 44 U.S.C.3506(c)(2)(A).

Copies of this information collection and related instructions can be obtained without charge from June Blalock, USDA, ARS, Office of Technology Transfer by calling 301-504-5989.

Comments are invited on (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, such as through the use of appropriate automated, electronic, mechanical, or other technological collection techniques. Comments may be sent to USDA, ARS, Office of Technology Transfer, 5601 Sunnyside Avenue, Room 4-1174, Beltsville, Maryland 20705-5131. All responses to this notice will be summarized and included in the request for OMB approval. All comments will also become a matter of public record.

Richard J. Brenner,
Assistant Administrator.

[FR Doc. E7-8089 Filed 4-26-07; 8:45 am]

BILLING CODE 3410-03-P